COMMODITY FUTURES TRADING COMMISSION

Sunshine Act Meetings

TIME AND DATE: 10:00 a.m., Tuesday, November 5, 2019.

PLACE: CFTC Headquarters, Lobby-Level Hearing Room, Three Lafayette Centre, 1155 21st Street NW, Washington, DC.

STATUS: Open.

MATTERS TO BE CONSIDERED: The Commodity Futures Trading Commission (“Commission” or “CFTC”) will hold this meeting to consider the following matters:

• Proposed Rule—Correcting Amendment to Commission Regulation 160.30 (Privacy of Consumer Financial Information);

• Foreign Board of Trade (FBOT) Applications of Euronext Amsterdam, Euronext Paris, and European Energy Exchange; and

• Other Commission business.

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: October 28, 2019.
Christopher Kirkpatrick,
Secretary of the Commission.

[FR Doc. 2019-23810 Filed 10-28-19; 4:15 pm]

BILLING CODE 6351-01-P